DEPARTMENT OF TRANSPORTATION

Federal Aviation Administration

[Docket No. FAA-2000-8278]

High Density Airports; Disposition of Comments From Lottery of Slot Exemptions at LaGuardia Airport

AGENCY: Federal Aviation Administration, DOT.

ACTION: Disposition of comments.

SUMMARY: This notice disposes of comments filed in the docket concerning the lottery of slot exemptions at LaGuardia Airport.

FOR FURTHER INFORMATION CONTACT: David L. Bennett, Office of Airport Safety and Standards, Federal Aviation Administration, 800 Independence Avenue, SW., Washington, DC 20591.

SUPPLEMENTARY INFORMATION

Background

On December 4, 2000, the FAA conducted a lottery to reallocate slot exemptions at LaGuardia Airport that were authorized under the “Wendell H. Ford Aviation Investment and Reform Act for the 21st Century” (“AIR-21”). At the lottery, participants were invited to comment on the lottery procedures by submitting written comments to the docket. The FAA advised that all comments received would be addressed via a notice in the Federal Register.

Disposition of Comments

Comments were submitted from Midwest Express Airlines (“Midwest Express”), the Air Carrier Association of America (“ACAA”), Delta Air Lines, Inc. (“Delta”) and US Airways, Inc. (“US Airways”).

US Airways commented that if Legend Airlines does not commence operations and Legend's slots are allocated in accordance with the contingency round, then US Airways should be next in line to select an additional slot, should one become available for whatever reason. (US Airways bases this comment on the fact that it received only one exemption time, while the other three participating carriers received two exemptions each.) US Airways also requests that should additional slots become available before September 15, 2001, it should be given the opportunity to trade the 2100-hour slot exemption that it received during the Legend contingency round for another slot. The 2100-hour slot exemption was not the slot time selected by Legend, but rather was a replacement for an 1800-hour exemption. US Airways obtained the 2100-hour slot time only because the real slot time selected by Legend was over subscribed.

Delta commented that the FAA should reject US Airways second request to trade the 2100-hour slot exemption should additional exemptions become available. Delta argues that US Airways' situation is solely the product of the lottery procedure established by the FAA and there is no legitimate basis to give US Airways priority over Delta who was forced to eliminate more flights at LaGuardia than any other carrier.

ACAA does not support US Airways comments and further proposes that any carrier that does not utilize a slot selected at the lottery by February 1, 2001, should be prohibited from exchanging that slot for another slot. ACAA also comments that in the event that Legend does not resume operations, the slots selected by Legend should be made available to new entrant and limited incumbent carriers and not be allocated to the commuter carriers. In addition, ACAA requests that the FAA suspend the extra section authority, suspend the buy-sell rule for LaGuardia until October 1, 2001, and provide new entrants/limited incumbents with four daily “delay-free” arrivals. These last comments are beyond the purpose of this disposition of comments concerning the lottery and will not be addressed in this document.

Midwest Express urges the FAA to reconsider its statement during the lottery that only the four commuter participants are permitted to participate in the Legend contingency round and that should there be future slot turnbacks or use/lose violations, those four commuter participants would remain eligible for the slots.

The FAA agrees with US Airways' comments with respect to the limited issue that in the event that the contingency round is allocated among the other four participating carriers, US Airways would be next in line to select an available slot, since it only selected one slot during the contingency round. The FAA does not agree that in the event that the contingency round is allocated that US Airways should be entitled to the second available slot in order to swap that slot with the 2100 slot that it had to select.

The FAA does not agree with ACAA and Midwest Express that any future slot turnbacks should be reserved for new entrant/limited incumbent. In developing the lottery procedures, the agency strived to strike a balance between the policies set forth in AIR-21 and to provide a fair and equitable distribution between the two categories of operations, consistent with the provisions of AIR-21. Since the purpose of the lottery was to cap operations at a level that was more acceptable than the current level of operations, the FAA did not structure lottery procedures so that any carrier could grow its operations. Not including the commuter carriers, all new entrant and limited incumbent carriers retained the same number of slots that they operated prior to the lottery. Consequently, while new entrant and limited incumbent carriers are limited in their ability to grow, as is the same for the commuter carriers, they have not been forced to reduce operations.

If AIR-21 exemption slots are returned for the long-term, under current lottery procedures, all new entrants have received their full allocations and thus would not be eligible for additional allocations. The FAA does not support changing the lottery procedures during this allocation period. The procedures set forth in the December 4, 2000, Federal Register notice will remain in effect until September 15, 2001.

Issued in Washington, DC on February 13, 2001.
James W. Whitlow,
Deputy Chief Counsel.

[FR Doc. 01-4149 Filed 2-16-01; 8:45 am]

BILLING CODE 4910-13-M